DEPARTMENT OF HOMELAND SECURITY

Federal Emergency Management Agency

[Docket ID FEMA-2025-0002; Internal Agency Docket No. FEMA-B-2567]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP).

DATES: Comments are to be submitted on or before March 18, 2026.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2567, to David N. Bascom, Acting Director, Engineering and Modeling Division, National Flood Insurance Program, Resilience, FEMA, 400 C Street SW, Washington, DC 20472, or (email) david.bascom@fema.dhs.gov.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Elizabeth Asche,
Assistant Administrator, Federal Insurance Directorate, Resilience Federal Emergency Management Agency, Department of Homeland Security.

Community | Community map repository address
Collier County, Florida and Incorporated Areas
Project: 16-04-1501S Preliminary Date: March 20, 2025
City of Naples | Building Department, 295 Riverside Circle, Naples, FL 34102.
Seminole Tribe of Florida | Seminole Tribal Council Headquarters, 6300 Stirling Road, Hollywood, FL 33024.
Unincorporated Areas of Collier County | Collier County Growth Management Department, 2800 North Horseshoe Drive, Naples, FL 34104.
Pinellas County, Florida and Incorporated Areas
Project: 22-04-0005S Preliminary Date: May 15, 2025
City of Clearwater | Municipal Services Building, Engineering Department, 100 South Myrtle Avenue, Suite 220, Clearwater, FL 33756.
City of Safety Harbor | Building Official's Department, 750 Main Street, Safety Harbor, FL 34695.
Unincorporated Areas of Pinellas County | Pinellas County Building Department, 440 Court Street, Clearwater, FL 33756.
Attala County, Mississippi and Incorporated Areas
Project: 23-04-0044S Preliminary Date: April 24, 2025
City of Kosciusko | City Hall, 222 East Washington Street, Kosciusko, MS 39090.
Town of Sallis | Town Hall, 6267 Front Street, Sallis, MS 39160.
Unincorporated Areas of Attala County | Attala County Courthouse, 230 West Washington Street, Kosciusko, MS 39090.
Carroll County, Mississippi and Incorporated Areas
Project: 23-04-0044S Preliminary Date: April 24, 2025
Town of Vaiden | Town Hall, 201 Mulberry Street, Vaiden, MS 39176.
Unincorporated Areas of Carroll County | Carroll County Courthouse, 600 Lexington Street, Carrollton, MS 38917.
Choctaw County, Mississippi and Incorporated Areas
Project: 23-04-0044S Preliminary Date: April 24, 2025
Town of French Camp | Town Hall, 6069 Mississippi Highway 413, French Camp, MS 39745.
Unincorporated Areas of Choctaw County | Choctaw County Courthouse, 22 East Quinn Street, Ackerman, MS 39735.
Holmes County, Mississippi and Incorporated Areas
Project: 23-04-0044S Preliminary Date: April 24, 2025
City of Durant | City Hall, 253 West Mulberry Street, Durant, MS 39063.
Town of Goodman | Town Hall, 9912 Main Street, Goodman, MS 39079.
Town of Pickens | Town Hall, 163 North 2nd Street, Pickens, MS 39146.
Town of West | Town Hall, 24839 Highway 51, West, MS 39192.
Unincorporated Areas of Holmes County | Holmes County Administrative Offices, 408 Court Square, Lexington, MS 39095.
Leake County, Mississippi and Incorporated Areas
Project: 23-04-0044S Preliminary Date: April 24, 2025
Unincorporated Areas of Leake County | Leake County Emergency Management, 123 North Pearl Street, Carthage, MS 39051.
Madison County, Mississippi and Incorporated Areas
Project: 23-04-0044S Preliminary Date: April 24, 2025
Unincorporated Areas of Madison County | Madison County Administrative Building, 125 West North Street, Canton, MS 39046.
Montgomery County, Mississippi and Incorporated Areas
Project: 23-04-0044S Preliminary Date: April 24, 2025
City of Winona | City Hall, 409 Summit Street, Winona, MS 38967.
Town of Kilmichael | City Hall, 114 North Depot Avenue, Kilmichael, MS 39747.
Unincorporated Areas of Montgomery County | Montgomery County Courthouse, 614 Summit Street, Winona, MS 38967.
Oktibbeha County, Mississippi and Incorporated Areas
Project: 23-04-0044S Preliminary Date: April 24, 2025
Town of Maben | City Hall, 711 2nd Avenue, Maben, MS 39750.
Unincorporated Areas of Oktibbeha County | Oktibbeha County Courthouse, 101 East Main Street, Suite 2, Starkville, MS 39759.
Webster County, Mississippi and Incorporated Areas
Project: 23-04-0044S Preliminary Date: April 24, 2025
Town of Eupora | City Hall, 390 West Clark Avenue, Eupora, MS 39744.
Town of Mathiston | Town Hall, 41 Mathis Drive, Mathiston, MS 39752.
Unincorporated Areas of Webster County | Webster County Courthouse, 6333 Mississippi Highway 9, Walthall, MS 39771.
Village of Walthall | Village Hall, 47 Historical Street, Walthall, MS 39771.
Humphreys County, Tennessee and Incorporated Areas
Project: 24-04-0066S Preliminary Date: December 19, 2024
City of McEwen | City Hall, 9586 U.S. Highway 70 East, McEwen, TN 37101.
City of Waverly | Building and Codes Department, 101 East Main Street, Waverly, TN 37185.
Unincorporated Areas of Humphreys County | Humphreys County Soil Conservation District, 234 West Blue Creek Road, Waverly, TN 37185.

[FR Doc. 2025-23172 Filed 12-17-25; 8:45 am]

BILLING CODE 9110-12-P